DEPARTMENT OF COMMERCE

National Oceanic and Atmospheric Administration

National Sea Grant Advisory Board (NSGAB); Meeting: The National Sea Grant Advisory Board Spring 2018 Meeting Will Be Held March 6-7, 2018.

AGENCY: National Oceanic and Atmospheric Administration (NOAA), Department of Commerce (DOC).

ACTION: Notice of public meeting.

SUMMARY: This notice sets forth the schedule and proposed agenda of a forthcoming meeting of the NSGAB. NSGAB members will discuss and provide advice on the National Sea Grant College Program (NSGCP) in the areas of program evaluation, strategic planning, education, and extension, science and technology programs, and other matters as described in the agenda found on the NSGCP website at http://seagrant.noaa.gov/WhoWeAre/Leadership/NationalSeaGrantAdvisoryBoard/UpcomingAdvisoryBoardMeetings.aspx.

DATES: The announced meeting is scheduled for Tuesday, March 6, 2018 from 8:30 a.m. to 4:45 p.m. EST and Wednesday, March 7, 2018, from 8:00 a.m. to 12:00 p.m. EST.

ADDRESSES: The meeting will be held at the Washington Plaza Hotel, 10 Thomas Circle, Northwest, Washington, DC 20005.

STATUS: The meeting will be open to public participation with a 15-minute public comment period on Tuesday, March 6, 2018 at 10:00 a.m. EST. (check agenda using link in the Summary section to confirm time.)

The NSGAB expects that public statements presented at its meetings will not be repetitive of previously submitted verbal or written statements. In general, each individual or group making a verbal presentation will be limited to a total time of three (3) minutes. Written comments should be received by Ms. Donna Brown by Friday, March 2, 2018 to provide sufficient time for NSGAB review. Written comments received after the deadline will be distributed to the NSGAB, but may not be reviewed prior to the meeting date. Seats will be available on a first-come, first-serve basis.

CONTACT INFORMATION: For any questions concerning the meeting, please contact Ms. Donna Brown, National Sea Grant College Program, National Oceanic and Atmospheric Administration, 1315 East-West Highway, Room 11717, Silver Spring, Maryland, 20910, 301-734-1088, Donna.Brown@noaa.gov.

SPECIAL ACCOMMODATIONS: These meetings are physically accessible to people with disabilities. Requests for sign language interpretation or other auxiliary aids should be directed to Ms. Donna Brown by Friday, February 23, 2018.

SUPPLEMENTARY INFORMATION: The NSGAB, which consists of a balanced representation from academia, industry, state government and citizens groups, was established in 1976 by Section 209 of the Sea Grant Improvement Act (Pub. L. 94-461, 33 U.S.C. 1128). The NSGAB advises the Secretary of Commerce and the Director of the NSGCP with respect to operations under the Act, and such other matters as the Secretary refers to them for review and advice.

Dated: January 30, 2018.
David Holst,
Chief Financial/Administrative Officer, Office of Oceanic and Atmospheric Research, National Oceanic and Atmospheric Administration.

[FR Doc. 2018-02313 Filed 2-5-18; 8:45 am]

BILLING CODE 3510-KA-P